DEPARTMENT OF HEALTH AND HUMAN SERVICES

National Institutes of Health

National Center for Research Resources; Amended Notice of Meeting

Notice is hereby given of a change in the meeting of the National Center for Research Resources Special Emphasis Panel, February 21, 2008, 8 a.m. to February 22, 2008, 5 p.m., Hyatt Regency Bethesda, One Bethesda Metro Center, 7400 Wisconsin Avenue, Bethesda, MD 20814 which was published in the Federal Register on January 17, 2008, 73 FR 3259.

This notice has been amended to change the date of Dr. Barbara Nelson's February 21-22, 2008, meeting to May 7-8, 2008. The meeting is closed to the public.

Dated: February 5, 2008.
Jennifer Spaeth,
Director, Office of Federal Advisory Committee Policy.

[FR Doc. 08-601 Filed 2-12-08; 8:45 am]

BILLING CODE 4140-01-M